NUCLEAR REGULATORY COMMISSION

[Docket No. 030-05004]

Notice of Availability of Environmental Assessment and Finding of No Significant Impact for License Amendment for Northern States Power Company D.B.A. Xcel Energy Pathfinder Site, Sioux Falls, SD

AGENCY: Nuclear Regulatory Commission.

ACTION: Notice of availability.

FOR FURTHER INFORMATION CONTACT: Chad Glenn, Project Manager, Decommissioning Directorate, Division of Waste Management and Environmental Protection, Office of Nuclear Material Safety and Safeguards, U.S. Nuclear Regulatory Commission, Washington, DC 20555-0001. Telephone: (301) 415-6722; fax number: (301) 415-5398; e-mail: cjg1@nrc.gov.

SUPPLEMENTARY INFORMATION:

I. Introduction

The Nuclear Regulatory Commission (NRC) is considering the issuance of a license amendment to Materials License No. 22-08799-02 issued to Northern States Power Company D.B.A. Xcel Energy (the licensee) to authorize decommissioning at its Pathfinder site in Minnehaha County, South Dakota for unrestricted use and termination of this license. NRC has prepared an Environmental Assessment (EA) in support of this amendment in accordance with the requirements of 10 CFR Part 51. Based on the EA, the NRC has concluded that a Finding of No Significant Impact (FONSI) is appropriate. The amendment will be issued following the publication of this Notice.

II. EA Summary

The purpose of the proposed amendment is to authorize decommissioning of the licensee's Pathfinder site in Sioux Falls, South Dakota for unrestricted use to allow for license termination. Specifically, the proposed amendment would incorporate the Pathfinder Decommissioning Plan (DP) into the license and authorize decommissioning activities in accordance with the DP. On February 17, 2004, Xcel Energy submitted the Pathfinder DP for NRC approval and requested a license amendment. Xcel Energy's request was published in the Federal Register on August 4, 2004 (69 FR 47185) with a notice of an opportunity to request a hearing and an opportunity to provide comments on the amendment and its environmental impacts. The NRC staff has received no hearing request or comments on the proposed amendment.

The NRC staff has prepared an EA in support of the proposed license amendment. The staff has reviewed the Pathfinder DP and examined the environmental impacts of decommissioning. Based on its review, the staff has also determined that the environmental impacts are enveloped by the generic analysis performed in support of “Radiological Criteria for License Termination” (62 FR 39058). Additionally, no non-radiological impacts were identified. The staff also finds that the proposed decommissioning of the site is in compliance with 10 CFR 20.1402, the radiological criteria for unrestricted use.

III. Finding of No Significant Impact

On the basis of the EA, NRC has concluded that there are no significant environmental impacts from the proposed amendment and has determined not to prepare an environmental impact statement for the proposed amendment.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession number for the EA related to this notice is (ML050960256). If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland this 19th day of May, 2005.
For the Nuclear Regulatory Commission.
Daniel M. Gillen,
Director, Decommissioning Directorate, Division of Waste Management and Environmental Protection, Office of Nuclear Material Safety and Safeguards.

[FR Doc. 05-10408 Filed 5-24-05; 8:45 am]

BILLING CODE 7590-01-P